DEPARTMENT OF HEALTH AND HUMAN SERVICES

Health Care Financing Administration

42 CFR Part 413

[HCFA-1883-F2]

RIN 0938-AI80

Medicare Program; Revision of the Procedures for Requesting Exceptions to Cost Limits for Skilled Nursing Facilities and Elimination of Reclassifications; Correction

AGENCY: Health Care Financing Administration (HCFA) HHS.

ACTION: Technical corrections.

SUMMARY: In the August 5, 1999 issue of the Federal Register (64 FR 42610), we published a final rule addressing the procedures for granting exceptions to the Medicare skilled nursing facility (SNF) routine service cost limits, and we removed the provision allowing for reclassification for SNFs and home health agencies. This document amends the regulations text to make technical corrections to those parts of the regulation unrelated to the SNF exception procedures that were inadvertently changed.

EFFECTIVE DATE: September 7, 1999.

FOR FURTHER INFORMATION CONTACT: Julie Stankivic, (410) 786-5725.

SUPPLEMENTARY INFORMATION:

Background

In the August 5, 1999 final rule (64 FR 42610), we amended the regulations to allow the fiscal intermediaries to make final determinations on requests by skilled nursing facilities (SNFs) for exceptions to the Medicare routine service cost limits under 42 CFR § 413.30(f). In the preamble to both the proposed and final rules (63 FR 42797 and 64 FR 42610, respectively), we specifically stated that the changes are limited to our procedures regarding SNF exceptions. We did not intend to change the new provider exemption under § 413.30(e) or any other provision relating to home health agencies (HHAs). The changes in § 413.30 as set forth in the final rule, however, have raised questions as to whether policy changes had been made in these unrelated areas.

The New Provider Exemption

The preamble to the proposed and final rules (63 FR 42797 and 64 FR 42610, respectively) discussed the three types of relief available to SNFs that exceed the SNF routine service cost limits found in § 413.30. In the preamble concerning § 413.30(c), we indicated that a provider may seek relief from the effects of applying the cost limits, either by requesting an exemption from its limits as a new provider of inpatient services, by requesting a reclassification of its provider status, or by requesting an exception to the cost limit. Of these three types of relief, the proposed and final rules focused solely on the exception process and our proposal to revise the approval process for granting exceptions to the cost limits for SNFs and to remove the provision for obtaining a reclassification for a SNF or an HHA. We did not make changes to the exemption requirements for a new provider. However, the recently promulgated changes to § 413.30(c)(2), with regard to the processing of SNF exception requests, may have created confusion with regard to the processing of new provider exemption requests. In addition, editorial changes to § 413.30(d), meant to clarify which provisions applied to which provider type may have created an impression that a policy change has occurred; no policy changes were intended. The only two provider types subject to the regulations found in § 413.30 at present are SNFs and HHAs. We did not propose any changes to our existing policies with regard to the new provider exemption provision or the processing of new provider exemption requests. The intermediary makes a recommendation to HCFA, and HCFA makes the final determination on requests by SNFs for a new provider exemption under § 413.30(d) as redesignated.

Home Health Agencies

In the preamble to the proposed and final rules (63 FR 42797, 64 FR 42610), we clearly stated that we are retaining the current procedures for HHA exception requests and that these provisions would remain unchanged. We modified § 413.30 (in its entirety), in an attempt to clarify which provisions applied to which provider type. The only two provider types subject to § 413.30 at present are SNFs and HHAs. HHAs, however, have never been eligible to receive an exception for “areas with fluctuating populations,” an impression that may have been created by these editorial changes.

Provisions of the Rule

For the reasons discussed above, we are making the necessary technical corrections to restore the regulations to conform with our longstanding and unchanged policies for both the new provider exemption for SNFs, and the procedures for exceptions to the cost limits for HHAs.

List of Subjects in 42 CFR Part 413

Health facilities, Kidney diseases, Medicare, Puerto Rico, Reporting and recordkeeping requirements.

Accordingly, 42 CFR part 413 is corrected by making the following correcting amendments:

PART 413—PRINCIPLES OF REASONABLE COST REIMBURSEMENT; PAYMENT FOR END-STAGE RENAL DISEASE SERVICES; PROSPECTIVELY DETERMINED PAYMENT RATES FOR SKILLED NURSING FACILITIES

1. The authority citation for part 413 continues to read as follows:

Authority: Secs. 1102, 1812(d), 1814(b), 1815, 1833(a), (i), and (n), 1871, 1881, 1883, and 1886 of the Social Security Act (42 U.S.C. 1302, 1395f(b), 1395g, 13951, 13951(a), (i), and (n), 1395x(v), 1395hh, 1395rr, 1395tt, and 1395ww).

2. In § 413.30, the following changes are made:

§ 413.30 [Corrected]

A. In paragraph (a) introductory text, at the end of the second sentence after the word “situations”, the phrase “of particular providers” is added.

B. In paragraph (a)(2), at the beginning of the first sentence, the words “Payable SNF and HHA” are removed, and the words “Reimbursable provider” are added in their place.

C. In paragraph (c) introductory text, in the last sentence, the words “intermediary's notice of program pay” are removed, and the words “intermediary's notice of program reimbursement” are added in their place.

D. In paragraph (c)(2), the heading is corrected to read “Skilled nursing facility exception”; and in the first sentence, the word “exception” is added between the words “SNFs” and “request”.

E. In paragraph (d), add the sentence “The intermediary makes a recommendation on the provider's request to HCFA, which makes the decision.” after the first sentence; and remove the words “the type of” from the first sentence and add the word “a” in their place.

F. In paragraph (e)(3) introductory text, the words “or HHA” are removed; and in paragraph (e)(3)(ii), the word “similar” is added before each occurrence of the word “services”, and the words “or HHA” are removed.

(Catalog of Federal Domestic Assistance Program No. 93.773 Medicare—Hospital Insurance)

Dated: September 21, 2000.
Brian P. Burns,
Deputy Assistant Secretary for Information Resources Management.

[FR Doc. 00-25497 Filed 10-6-00; 8:45 am]

BILLING CODE 4120-01-P